DEPARTMENT OF EDUCATION

[CFDA Nos. 84.938R]

Higher Education Disaster Relief

ACTION: Correction; notice correcting the deadline date.

SUMMARY: On January 16, 2009, we published a notice in the Federal Register (74 FR 3005-3009) inviting applications for new awards for fiscal year (FY) 2009 under the Higher Education Disaster Relief program. We listed the incorrect dates for the Deadline for Transmittal of Pre-Applications and the Deadline for Transmittal of Applications in that notice.

SUPPLEMENTARY INFORMATION: We are making the following corrections:

On page 3005, second column, and page 3006, third column, the Deadline for Transmittal of Pre-Applications is corrected to read: February 4, 2009.

On page 3005, second column, and page 3006, third column, the Deadline for Transmittal of Applications is corrected to read: March 19, 2009.

Finally, on page 3006, second column, third paragraph, last sentence, the date is corrected to read: March 19, 2009.

FOR FURTHER INFORMATION CONTACT: Cassandra Courtney, Fund for the Improvement of Postsecondary Education, U.S. Department of Education, 1990 K Street, NW., room 6166, Washington, DC 20006-8544. Telephone: (202) 502-7506 or by e-mail: HEDR@ed.gov or Cassandra.Courtney@ed.gov.

If you use a TDD, call the FRS, toll free, at 1-800-877-8339.

Individuals with disabilities can obtain this document and a copy of the application package in an alternative format (e.g., Braille, large print, audiotape, or computer diskette) on request to the program contact person listed under FOR FURTHER INFORMATION CONTACT.

Electronic Access to This Document: You may view this document, as well as all other documents of this Department published in the Federal Register, in text or Adobe Portable Document Format (PDF), on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 16, 2009.
Vickie L. Schray,
Acting Deputy Assistant Secretary for Higher Education Programs.

[FR Doc. E9-1550 Filed 1-23-09; 8:45 am]

BILLING CODE 4000-01-P